DEPARTMENT OF STATE

[Public Notice: 10045]

In the Matter of the Amendment of the Designation of al-Qa'ida in the Arabian Peninsula and Other Aliases as a Specially Designated Global Terrorist Entity Pursuant to Executive Order 13224

Based upon a review of the administrative record assembled in this matter, and in consultation with the Attorney General and the Secretary of the Treasury, I have concluded that there is a sufficient factual basis to find that al-Qa'ida in the Arabian Peninsula (and other aliases) uses the additional aliases Sons of Abyan, Sons of Hadramawt, Sons of Hadramawt Committee, Civil Council of Hadramawt, and National Hadramawt Council.

Therefore, pursuant to Section 1(b) of Executive Order 13224, I hereby amend the designation of al-Qa'ida in the Arabian Peninsula (and other aliases) as a Specially Designated Global Terrorist to include Sons of Abyan, Sons of Hadramawt, Sons of Hadramawt Committee, Civil Council of Hadramawt, and National Hadramawt Council as aliases.

This determination shall be published in the Federal Register.

Dated: May 15, 2017.
Rex Tillerson,
Secretary of State.

[FR Doc. 2017-13319 Filed 6-22-17; 8:45 am]

BILLING CODE 4710-10-P